DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Maritech Resources, Inc., Structure Removal SEA ES/SR 04-088 | West Delta, Block 17, Lease OCS-G 05668, located 10 miles from the nearest Louisiana shoreline | 7/1/2004
Newfield Exploration Company, Structure Removal SEA ES/SR 04-094 | East Cameron, Block 38, Lease OCS-G 02562, located 8 miles from the nearest Louisiana shoreline | 7/2/2004
Newfield Exploration Company, Structure Removal SEA ES/SR 04-090, 04-091, 04-092, 04-093 | West Cameron, Block 146, Lease OCS-G 01996, located 25 miles from the nearest Louisiana shoreline | 7/2/2004
Seneca Resources Corporation, Structure Removal SEA ES/SR 04-098 | Eugene Island, Block 98, Lease OCS-G 17965, located 20 miles from the nearest Louisiana shoreline | 7/7/2004
Newfield Exploration Company, Structure Removal SEA ES/SR 04-095 | Vermilion (South Addition), Block 308, Lease OCS-G 11892, located 78 miles from the nearest Louisiana shoreline | 7/7/2004
SPN Resources, LLC, Structure Removal SEA ES/SR 04-097 | South Marsh Island, Block 97, Lease OCS-G 21619, located 64 miles from the nearest Louisiana shoreline | 7/9/2004
Newfield Exploration Company, Structure Removal SEA ES/SR 04-096 | South Timbalier, Block 194, Lease OCS-G 05610, located 37 miles from the nearest Louisiana shoreline | 7/9/2004
El Paso Production, Structure Removal SEA ES/SR 04-099 | West Cameron (South), Block 526, Lease OCS-G 15100, located 90 miles from the nearest Louisiana shoreline | 7/13/2004
El Paso Production Oil & Gas Company, Structure Removal SEA ES/SR 04-100 | West Cameron (South Addition), Block 523, Lease OCS-G 19725, located 92 miles from the nearest Texas shoreline | 7/14/2004
Chevron USA, Inc., Structure Removal SEA ES/SR 04-101 | South Timbalier, Block 130, Lease OCS 00456, located 29 miles south of the Louisiana shoreline | 7/20/2004
El Paso Production GOM, Inc., Structure Removal SEA ES/SR 04-102, 04-103 | Grand Isle, Blocks 30 & 31, Leases OCS-G 23599 (RUE) & 18065, located 11 to 12 miles from the nearest Louisiana shoreline | 7/21/2004
El Paso Production Company, Structure Removal SEA ES/SR 04-104, 04-105 | Eugene Island, Block 52, Lease OCS-G 03148, located 10 miles from the nearest Louisiana shoreline | 7/23/2004
ATP Oil & Gas Corporation, Structure Removal SEA ES/SR 04-115 | Vermilion, Block 63, Lease OCS-G 15167, located 18 miles from the nearest Louisiana shoreline | 7/27/2004
Murphy Exploration & Production Company, Structure Removal SEA ES/SR 04-106, 04-107, 04-108, 04-109, 04-110, 04-011, 04-112 | South Pelto, Block 12, Lease OCS 00072, located 6 miles from the nearest Louisiana shoreline | 7/28/2004
Murphy Exploration & Production Company, Structure Removal SEA ES/SR 04-113 | South Pelto, Block 19, Lease OCS 00073, located 10 miles from the nearest Louisiana shoreline | 7/28/2004
Murphy Exploration & Production Company, Initial Exploration Plan SEA N-8098 | LLoyd Ridge, Blocks 1 & 2, Leases OCS-G 10486 & 10487, located 105 miles from the nearest Louisiana shoreline | 8/4/2004
Fugro GeoServices, Inc., Geological & Geophysical Exploration Plan for Apache Corporation, SEA L04-49 | Located in the central Gulf of Mexico | 8/4/2004
Energy Partners, Ltd., Structure Removal SEA ES/SR 04-114 | West Cameron, Block 149, Lease OCS 00253, located 22 miles from the nearest Louisiana shoreline | 8/6/2004
SPN Resources, LLC, Structure Removal SEA ES/SR 04-119 | Eugene Island, Block 100, Lease OCS 00796, located 17 miles from the nearest Louisiana shoreline | 8/10/2004
Dunhill Resources, Inc., Structure Removal SEA ES/SR 04-120 | High Island, Block 139, Lease OCS-G 03235, located 20 miles from the nearest Louisiana shoreline | 8/10/2004
Fugro GeoServices, Inc., Geological & Geophysical Exploration Plan for GulfTerra Energy Partners, LP, SEA L04-51 | Located in the central Gulf of Mexico | 8/11/2004
C & C Technologies, Inc., Geological & Geophysical Exploration Plan for BP America, Inc. SEA L04-54 | Located in the central Gulf of Mexico | 8/12/2004
SPN Resources, LLC, Structure Removal SEA ES/SR 04-118 | Eugene Island, Block 100, Lease OCS 00796, located 18 miles from the nearest Louisiana shoreline | 8/17/2004
SPN Resources, LLC, Structure Removal SEA ES/SR 89-059A | Eugene Island, Block 100, Lease OCS 00796, located 18 miles from the nearest Louisiana shoreline | 8/17/2004
Multiwave Geophysical Company, Geological & Geophysical Exploration Plan SEA L04-50 | Located in the Mississippi Canyon area of the central Gulf of Mexico | 8/17/2004
BP America, Inc., Geological & Geophysical Exploration Plan SEA L04-55 | Located in the central Gulf of Mexico | 8/17/2004
Energy Partners, LTD, Structure Removal SEA ES/SR 04-121 | West Delta, Block 94, OCS 00839, located 25 miles from the nearest Louisiana shoreline | 8/18/2004
Multiwave Geophysical Company, Geological & Geophysical Exploration Plan for Shell E & P, SEA L04-53 | Located in Mississippi Canyon of the central Gulf of Mexico south of the nearest Alabama shoreline | 8/20/2004
Noble Energy, Inc., Structure Removal SEA ES/SR 04-124 | High Island (East South), Block A281, Lease OCS-G 03377, located 85 miles from the nearest Louisiana shoreline | 8/26/2004
Forest Oil Corporation, Structure Removal SEA ES/SR 04-122, 04-123 | West Cameron & High Island, Blocks 228 & 132, ROW G 8607 & OCS-G 18937, located 42 miles south of the nearest Cameron Parish, Louisiana shoreline; 51 miles southeast of the Sabine Pass, Texas shoreline; and 28 miles south of the Jefferson County, Texas shoreline | 8/30/2004
Veritas DGC Corporation, Geological & Geophysical Exploration Plan SEA L04-58 | Located in the central Gulf of Mexico east of Galveston, Texas | 9/1/2004
The Louisiana Land & Exploration Company, Structure Removal SEA ES/SR 04-089 | Eugene Island (South Addition), Block 384, Lease OCS-G 03159, located 78 miles from the nearest Louisiana shoreline | 9/8/2004
Chevron U.S.A., Inc., Structure Removal SEA ES/SR 04-126, 04-127, 04-128, 95-48A, 04-129, 04-130, 04-131 | Ship Shoal & West Cameron, Blocks 108 & 48, Leases OCS 00814 & OCS-G 01351, located 19 miles southwest from the nearest Terrebonne Parish, Louisiana shoreline, and 4 miles south from the nearest Cameron Parish, Louisiana shoreline, respectively | 9/13/2004
Calpine Natural Gas, LP, Structure Removal SEA ES/SR 04-125 | East Cameron, Block 89, Lease OCS-G 00935, located 22 miles from the nearest Louisiana shoreline | 9/21/2004
SPN Resources, LLC, Structure Removal SEA ES/SR 04-132 | Mobile, Block 830, Lease OCS-G 06845, located 4 miles from the nearest Alabama shoreline | 9/21/2004
Hunt Petroleum (AEC), Inc., Structure Removal SEA ES/SR 04-133 | Vermilion, Block 248, Lease OCS-G 15195, located 65 miles from the nearest Louisiana shoreline | 9/21/2004
Vintage Petroleum, Inc., Structure Removal SEA ES/SR 04-137 | Main Pass, Block 125, Lease OCS-G 04913, located 20 miles from the nearest Louisiana shoreline | 9/23/2004
Maritech Resources, Inc., Structure Removal SEA ES/SR 04-136 | East Cameron, Block 38, Lease OCS-G 02562, located 8 miles from the nearest Louisiana shoreline | 9/28/2004
Maritech Resources, Inc., Structure Removal SEA ES/SR 04-135 | Eugene Island, Block 28, Lease OCS-G 05478, located 12 miles from the nearest Louisiana shoreline | 9/28/2004
ATP Oil & Gas Corporation, Structure Removal SEA ES/SR 04-134 | High Island (East South), Block A354, Lease OCS-G 17212, located 110 miles from the nearest Texas shoreline | 9/28/2004
Veritas DGC, Inc., Geological & Geophysical Exploration Plan SEA L04-62 | Located in the central Gulf of Mexico south of Fourchon, Louisiana | 9/30/2004

Persons interested in reviewing environmental documents for the proposals listed above or obtaining information about SEAs and FONSIs prepared for activities on the Gulf of Mexico OCS are encouraged to contact MMS at the address or telephone listed in the FOR FURTHER INFORMATION CONTACT section.

Dated: October 7, 2004.
Chris C. Oynes,
Regional Director, Gulf of Mexico OCS Region.

[FR Doc. 04-25242 Filed 11-12-04; 8:45 am]

BILLING CODE 4310-MR-P